THE NATIONAL FOUNDATION ON THE ARTS AND THE HUMANITIES

Meetings of Humanities Panel

AGENCY: The National Endowment for the Humanities.

ACTION: Notice of meetings.

SUMMARY: Pursuant to the provisions of the Federal Advisory Committee Act (Pub. L. 92-463, as amended), notice is hereby given that the following meetings of Humanities Panels will be held at the Old Post Office, 1100 Pennsylvania Avenue, NW., Washington, DC 20506.

FOR FURTHER INFORMATION CONTACT: Michael P. McDonald, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of Title 5, United States Code.

1. Date: July 13, 2010.

Time: 8:30 a.m. to 5 p.m.

Room: 315.

Program: This meeting will review applications for Musicology in Fellowships, submitted to the Division of Research Programs at the May 4, 2010 deadline.

2. Date: July 13, 2010.

Time: 9 a.m. to 5 p.m.

Room: 421.

Program: This meeting will review applications for Colleges and Universities I, submitted to the Office of Challenge Grants at the May 5, 2010 deadline.

3. Date: July 14, 2010.

Time: 8:30 a.m. to 5 p.m.

Room: 315.

Program: This meeting will review applications for Comparative Literature and Literary Theory in Fellowships, submitted to the Division of Research Programs at the May 4, 2010 deadline.

4. Date: July 15, 2010.

Time: 8:30 a.m. to 5 p.m.

Room: 315.

Program: This meeting will review applications for Early Modern European History in Fellowships, submitted to the Division of Research Programs at the May 4, 2010 deadline.

5. Date: July 15, 2010.

Time: 8:30 a.m. to 5 p.m.

Room: 415.

Program: This meeting will review applications for Modern European History I in Fellowships, submitted to the Division of Research Programs at the May 4, 2010 deadline.

6. Date: July 15, 2010.

Time: 9 a.m. to 5 p.m.

Room: 421.

Program: This meeting will review applications for Art and Anthropology, submitted to the Office of Challenge Grants at the May 5, 2010 deadline.

7. Date: July 19, 2010.

Time: 8:30 a.m. to 5 p.m.

Room: 315.

Program: This meeting will review applications for Religious Studies in Fellowships, submitted to the Division of Research Programs at the May 4, 2010 deadline.

8. Date: July 19, 2010.

Time: 8:30 a.m. to 5 p.m.

Room: 415.

Program: This meeting will review applications for African Studies in Fellowships, submitted to the Division of Research Programs at the May 4, 2010 deadline.

9. Date: July 20, 2010.

Time: 9 a.m. to 5 p.m.

Room: 421.

Program: This meeting will review applications for Colleges and Universities II, submitted to the Office of Challenge Grants at the May 5, 2010 deadline.

10. Date: July 20, 2010.

Time: 8:30 a.m. to 5 p.m.

Room: 415.

Program: This meeting will review applications for American Studies I in Fellowships, submitted to the Division of Research Programs at the May 4, 2010 deadline.

11. Date: July 26, 2010.

Time: 8:30 a.m. to 5 p.m.

Room: 315.

Program: This meeting will review applications for East Asian Studies in Fellowships, submitted to the Division of Research Programs at the May 4, 2010 deadline.

12. Date: July 26, 2010.

Time: 8:30 a.m. to 5 p.m.

Room: 415.

Program: This meeting will review applications for Anthropology in Fellowships, submitted to the Division of Research Programs at the May 4, 2010 deadline.

13. Date: July 27, 2010.

Time: 8:30 a.m. to 5 p.m.

Room: 415.

Program: This meeting will review applications for British Literature I in Fellowships, submitted to the Division of Research Programs at the May 4, 2010 deadline.

14. Date: July 27, 2010.

Time: 8:30 a.m. to 5 p.m.

Room: 315.

Program: This meeting will review applications for British Literature II in Fellowships, submitted to the Division of Research Programs at the May 4, 2010 deadline.

15. Date: July 27, 2010.

Time: 9 a.m. to 5 p.m.

Room: 421.

Program: This meeting will review applications for History I, submitted to the Office of Challenge Grants at the May 5, 2010 deadline.

16. Date: July 28, 2010.

Time: 8:30 a.m. to 5 p.m.

Room: 415.

Program: This meeting will review applications for Latin American Studies I in Fellowships, submitted to the Division of Research Programs at the May 4, 2010 deadline.

17. Date: July 28, 2010.

Time: 8:30 a.m. to 5 p.m.

Room: 315.

Program: This meeting will review applications for Latin American Studies II in Fellowships, submitted to the Division of Research Programs at the May 4, 2010 deadline.

18. Date: July 29, 2010.

Time: 8:30 a.m. to 5 p.m.

Room: 315.

Program: This meeting will review applications for Philosophy I in Fellowships, submitted to the Division of Research Programs at the May 4, 2010 deadline.

19. Date: July 29, 2010.

Time: 8:30 a.m. to 5 p.m.

Room: 415.

Program: This meeting will review applications for Philosophy II in Fellowships, submitted to the Division of Research Programs at the May 4, 2010 deadline.

20. Date: July 29, 2010.

Time: 9 a.m. to 5 p.m.

Room: 421.

Program: This meeting will review applications for Research, submitted to the Office of Challenge Grants at the May 5, 2010 deadline.

21. Date: July 30, 2010.

Time: 8:30 a.m. to 5 p.m.

Room: 315.

Program: This meeting will review applications for Music and Dance in Fellowships, submitted to the Division of Research Programs at the May 4, 2010 deadline.

Michael P. McDonald,
Advisory Committee Management Officer.

[FR Doc. 2010-14137 Filed 6-11-10; 8:45 am]

BILLING CODE 7536-01-P